DEPARTMENT OF AGRICULTURE

Food Safety and Inspection Service

[Docket No. 00-018N]

Nominations for Membership on the National Advisory Committee on Microbiological Criteria for Foods

AGENCY: Food Safety and Inspection Service, USDA.

ACTION: Notice.

SUMMARY: The U.S. Department of Agriculture (USDA) is soliciting nominations for membership on the National Advisory Committee on Microbiological Criteria for Foods (NACMCF). Nominations for membership are being sought from individuals with scientific expertise in the fields of Epidemiology, Food Technology, Microbiology (food, clinical, and predictive), Risk Assessment, Infectious Disease, and Biostatistics. Persons from the government, industry, academia, and consumer advocacy groups are invited to submit nominations. This notice also informs members of the public as to how they may receive copies of the weekly FSIS Constituent Update, which provides information regarding FSIS policies, procedures, regulations, Federal Register notices, FSIS public meetings, recalls, and other relevant information.

DATES: The Nominee's typed resumé or curriculum vitae must be postmarked no later than July 24, 2000.

ADDRESSES: Nominations should be sent to Ms. Jacque Knight, Advisory Committee Specialist, USDA, FSIS, Room 341-E JLW Building, 1400 Independence Avenue, SW., Washington, DC 20250-3700.

FOR FURTHER INFORMATION CONTACT: Ms. Jacque Knight, Advisory Committee Specialist, at the above address or by telephone 202-720-3523 or FAX 202-720-3192.

SUPPLEMENTARY INFORMATION:

Background

The NACMCF was established in April 1988, as a result of a recommendation by a 1985 report of the National Academy of Sciences Committee on Food Protection, Subcommittee on Microbiological Criteria, “An Evaluation of the Role of Microbiological Criteria for Foods.” The current Charter for the NACMCF is available for viewing on the FSIS homepage at www.fsis.usda.gov.

The Committee provides advice and recommendations to the Secretaries of Agriculture and Health and Human Services concerning the development of microbiological criteria by which the safety and wholesomeness of food can be assessed. For example, the Committee assists in the development of criteria for microorganisms that indicate whether food has been processed using good manufacturing practices.

Appointments to the Committee will be made by the Secretary of Agriculture after consultation with the Secretary of Health and Human Services. To ensure that recommendations of the Committee take into account the needs of the diverse groups served by the Departments, membership shall include, to the extent practicable, individuals with demonstrated ability to represent minorities, women, and persons with disabilities.

Because of the complexity of the issues to be addressed, it is anticipated that the full Committee will meet more than once each year, and the subcommittees will meet as deemed necessary by the chairperson. There is a minimum two-year commitment to the advisory committee. Participation may require members to work outside of scheduled committee and subcommittee meetings and may require written documents to be prepared. Committee members serve without payment, however, they are reimbursed for travel and receive per deim.

Additional Public Notification

Public awareness of all segments of rulemaking and policy development is important. Consequently, in an effort to better ensure that minorities, women, and persons with disabilities are aware of this notice, FSIS will announce it and provide copies of this Federal Register publication in the FSIS Constituent Update. FSIS provides a weekly FSIS Constituent Update, which is communicated via fax to over 300 organizations and individuals. In addition, the update is available on-line through the FSIS web page located at http://www.fsis.usda.gov. The update is used to provide information regarding FSIS policies, procedures regulations, Federal Register notices, FSIS public meetings, recalls, and any other types of information that could affect or would be of interest to our constituents/stakeholders. The constituent fax list consists of industry, trade, and farm groups, consumer interest groups, allied health professionals, scientific professionals, and other individuals that have requested to be included. Through these various channels, FSIS is able to provide information to a much broader, more diverse audience. For more information and to be added to the constituent fax list, fax your request to the Congressional and Public Affairs Office, at (202) 720-5704.

Done at Washington, DC, on: June 16, 2000.
Thomas J. Billy,
Administrator.

[FR Doc. 00-15919 Filed 6-22-00; 8:45 am]

BILLING CODE 3410-DM-P